ENVIRONMENTAL PROTECTION AGENCY

[EPA-HQ-OEI-2006-0037, FRL-8045-3]

Agency Information Collection Activities; Proposed Collection; Comment Request; Exchange Network Grants Progress Report; EPA ICR No. 2207.02, OMB Control No. 2025-0006

AGENCY: Environmental Protection Agency.

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before May 15, 2006.

ADDRESSES: Submit your comments, identified by Docket ID No. EPA-HQ-OEI-2006-0037, by one of the following methods:

• www.regulations.gov: Follow the online instructions for submitting comments.

• E-mail: oei.docket@epa.gov.

• Fax: 202-566-1753.

• Mail: Exchange Network Grants Progress Report, Environmental Protection Agency, Mailcode: 2823-T, 1200 Pennsylvania Ave., NW., Washington, DC 20460.

• Hand Delivery: Exchange Network Grants Progress Report, EPA West Building, 1301 Constitution Ave., NW., Rm. #B102, Washington, DC 20004. Such deliveries are only accepted during the Docket's normal hours of operation, and special arrangements should be made for deliveries of boxed information.

Instructions: Direct your comments to Docket ID No. EPA-HQ-OEI-2006-0037. EPA's policy is that all comments received will be included in the public docket without change and may be made available online at www.regulations.gov, including any personal information provided, unless the comment includes information claimed to be Confidential Business Information (CBI) or other information whose disclosure is restricted by statute.

Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

For additional information about EPA's public docket, visit the EPA Docket Center Home page at http://www.epa.gov/epahome/dockets.htm.

FOR FURTHER INFORMATION CONTACT: Jeffrey Wells, OEI/OIC/IESD, Mailcode 2823T, Environmental Protection Agency, 1200 Pennsylvania Ave., NW., Washington, DC 20460; telephone number: 202-566-1706; fax number: 202-566-1684; e-mail address: wells.jeffrey@epa.gov.

SUPPLEMENTARY INFORMATION:

How Can I Access the Docket and/or Submit Comments?

EPA has established a public docket for this ICR under Docket ID No. EPA-HQ-OEI-2006-0037, which is available for online viewing at www.regulations.gov, or in person viewing at the OEI Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the OEI Docket is 202-566-1752.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are Environmental Information Exchange Network grant recipients. These recipients include state, territorial, and tribal governments.

Title: Exchange Network Grants Progress Report Renewal.

ICR numbers: EPA ICR No. 2207.02, OMB Control No. 2025-0006.

ICR status: This ICR is for a renewal of information collection activity. An Agency may not conduct or sponsor, and a person is not required to respond to, a collection of information, unless it displays a currently valid OMB control number. The OMB control numbers for EPA's regulations are listed in Title 40 of the Code of Federal Regulations (CFR), after OMB approval. The OMB control numbers are displayed in 40 CFR part 9, or may be displayed by other appropriate means, such as on the collection forms.

Abstract: This notice announces the proposed collection of information related to the U.S. EPA Environmental Information Exchange Network (EIEN) Grant Program. The EPA Office of Environmental Information provides funding to EPA's Exchange Network partners: States; territories; and Federally recognized Indian tribes to support the development of the EIEN. The EIEN is an Internet-and-standards-based, secure information system that supports the electronic collection, exchange, and integration of data among its partners. The goal of the EIEN is to improve information quality, timeliness, accessibility and the ability to integrate data, while offering business process improvements. Funding for the Grant Program has been provided through annual congressional appropriations for the EPA.

To enhance the quality and overall public benefit of the Network, EPA proposes to collect information from the EIEN grantees about how they intend to ensure quality in their projects and the environmental outcomes and outputs from their projects. The proposed Quality Assurance Reporting Form is intended to provide a simple means for grant recipients to present how quality will be addressed throughout their projects. The Quality Assurance Reporting Form is derived from guidelines provided in the EIEN's fiscal year 2006 grant solicitation notice. As a stipulation of their award, grant recipients are to submit the form within ninety days of grant award.

Grantees are also currently required to submit semiannual progress reports as a stipulation of their award. In these reports, grantees outline project goals, the activities required to meet these goals, and the outputs and outcomes of the activities to date. At the request of numerous grantees, we are proposing to offer the Performance Progress Reporting Form as a vehicle for collecting this information. This form is easier to complete than an unstructured narrative, and the information returned will be of higher quality.

Burden Statement: The annual public reporting and recordkeeping burden for this collection of information is estimated to average 1.5 hours per Performance Progress Reporting Form and 1 hour per Quality Assurance Reporting Form response. Burden means the total time, effort, or financial resources expended by persons to generate, maintain, retain, or disclose or provide information to or for a Federal agency. This includes the time needed to review instructions; develop, acquire, install, and utilize technology and systems for the purposes of collecting, validating, and verifying information; process and maintain information; disclose and provide information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 225.

Frequency of response: Semi-Annual for Performance Progress Reporting Form; once for Quality Assurance Reporting Form.

Estimated total annual number of responses for each respondent: 3.

Estimated total annual burden hours: 900 hours.

Estimated total annual costs: $0. This includes an estimated burden cost of $0 and an estimated cost of $0 for capital investment or maintenance and operational costs.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: March 7, 2006.
Doreen Sterling,
Acting Director, Information Exchange and Services Division.

[FR Doc. E6-3730 Filed 3-14-06; 8:45 am]

BILLING CODE 6560-50-P